DEPARTMENT OF LABOR

Mine Safety and Health Administration

Evaluation of International Electrotechnical Commission's (IEC) Standards for Intrinsic Safety and Explosion-Proof Enclosures

AGENCY: Mine Safety and Health Administration (MSHA), Labor.

ACTION: Notice of intent to review international (IEC) standards for equivalency to MSHA's product approval requirements.

SUMMARY: This notice announces the Mine Safety and Health Administration's intent to review the International Electrotechnical Commission's (IEC) standards for Electrical Apparatus for Explosive Gas Atmospheres, Part 0, General Requirements; Part 1, Construction and Verification Test of Flameproof enclosures of Electrical Apparatus; and Part 11, Intrinsic Safety.

MSHA will review these standards to determine if they are equivalent to the applicable MSHA product approval requirements or can be modified to provide at least the same degree of protection as those requirements.

DATES: Written comments must be submitted by January 30, 2004.

ADDRESSES: Comments must be clearly identified as such and transmitted either electronically to equivalencycomments@dol.gov, by facsimile to (304) 547-2044, or by regular mail or hand delivery to MSHA, Approval and Certification Center, Box 251, Industrial Park Road, Triadelphia, West Virginia 26059. You may contact MSHA with any format questions. Comments are posted for public viewing at http://www.msha.gov/currentcomments.htm.

FOR FURTHER INFORMATION CONTACT: David C. Chirdon, Chief, Electrical Safety Division, Approval and Certification Center, MSHA; phone: (304) 547-2026; facsimile: (304) 547-2044; E-mail: chirdon.david@dol.gov.

SUPPLEMENTARY INFORMATION:

Background

On June 17, 2003, MSHA published a final rule, 30 CFR part 6—Testing and Evaluation by Independent Laboratories and Non-MSHA Product Safety Standards. The rule established alternate requirements for testing and evaluation of products that MSHA approves for use in gassy underground mines. This final rule permits manufacturers to have their products approved based on non-MSHA product safety standards. This will occur only after MSHA has determined that such standards are equivalent to its applicable product approval requirements or can be modified to provide at least the same degree of protection as those MSHA requirements.

Section 6.20(b) of this regulation stated that “MSHA will publish its intent to review any non-MSHA product safety standard for equivalency in the Federal Register for the purpose of soliciting public input.” Section 6.20(c) further explained that “A listing of all equivalency determinations will be published in this part 6 and the applicable approval parts. The listing will state whether MSHA accepts the non-MSHA product safety standards in their original form, or whether MSHA will require modifications to demonstrate equivalency. If modifications are required, they will be provided in the listing. MSHA will notify the public of each equivalency determination and will publish a summary of the basis for its determination.”

MSHA solicits public input on its review of the International Electrotechnical Commission's (IEC) standards for Electrical Apparatus for Explosive Gas Atmospheres, Part 0, General Requirements (IEC 60079-0); Part 1, Construction and Verification Test of Flameproof enclosures of Electrical Apparatus (IEC 60079-1); and Part 11, Intrinsic Safety (IEC 60079-11). The IEC is a worldwide organization for standardization comprising all national electrotechnical committees. The object of the IEC is to promote international cooperation on all questions concerning standardization in the electrical and electronic fields. To this end and in addition to other activities, the IEC publishes international standards. The standards referenced in this notice are subparts of the IEC standards for hazardous location equipment.

MSHA welcomes comments on this review and any comments relative to other product safety standards that could be considered for future consideration.

After the comment period closes, an evaluation will be performed. At the conclusion of that evaluation, the determination will be published in the Federal Register. This determination will be accompanied by a list of modifications, if they are deemed necessary.

Dated: November 20, 2003.
Dave D. Lauriski,
Assistant Secretary of Labor for Mine Safety and Health.

[FR Doc. 03-29747 Filed 11-28-03; 8:45 am]

BILLING CODE 4510-43-P